AGENCY FOR INTERNATIONAL DEVELOPMENT

Public Meeting on Proposed Partner Vetting System

AGENCY: U.S. Agency for International Development.

ACTION: Notice of meeting.

SUMMARY: USAID will host a meeting for interested parties regarding the proposed Partner Vetting System. Following our System of Records Notice: July 17-August 27, 2007; Rulemaking Notice: July 20-Sept. 18, 2007; Paperwork Reduction Act Notices: July 23-Dec. 3, 2007; and Congressional consultations, USAID is interested in gathering feedback prior to the issuance of a final rule and initial implementation of the system. The goal of this meeting is to answer concerns raised during the public comment periods on this subject and to touch upon the results of our consultations thus far.

DATES: This meeting will be held on Friday, April 11, 2008 at 11:30 a.m.

ADDRESSES: The meeting will be held at U.S. Agency for International Development, 1300 Pennsylvania Avenue, NW., Washington, DC. Photo ID required for admittance into the Ronald Reagan Building as well as USAID.

Note: Due to security RSVP required.

FOR FURTHER INFORMATION CONTACT: RSVP to Todd Calongne, 202-712-0059, tcalongne@usaid.gov.

Dated: March 31, 2008.
Jeffrey Grieco,
Assistant Administrator for Legislative and Public Affairs.

[FR Doc. E8-6987 Filed 4-3-08; 8:45 am]

BILLING CODE 6116-01-P